DEPARTMENT OF STATE

[Public Notice: 12805]

Notice of Public Meeting in Preparation for International Maritime Organization CCC 11

The Department of State will conduct a public meeting at 10:00 a.m. on Tuesday, August 26, 2025, both in-person at Coast Guard Headquarters in Washington, DC, and via teleconference through Microsoft Teams. The primary purpose of the meeting is to prepare for the eleventh session of the International Maritime Organization's (IMO) Sub-Committee on Carriage of Cargoes and Containers (CCC 11) to be held at IMO Headquarters in London, United Kingdom from Monday, September 08, 2025, to Friday, September 12, 2025.

Members of the public may participate up to the capacity of the teleconference line, which can handle 500 participants or up to the seating capacity of the room if attending in-person. The meeting location will be the United States Coast Guard Headquarters, and the teleconference line will be provided to those who RSVP. To RSVP, participants should contact the meeting coordinator, LT Eva McNell, by email at Eva.M.McNell@uscg.mil. LT McNell will provide access information for in-person and virtual attendance.

The agenda items to be considered at CCC 11 include:

—Adoption of the agenda;

—Decisions of other IMO bodies;

—Amendments to the IGF Code and development of guidelines for alternative fuels and related technologies (2.3);

—Development of guidelines for the use of ammonia cargo as fuel and provisions for the use of alternative fuels other than cargo on gas carriers (1.17);

—Amendments to the IMSBC Code and supplements (7.13);

—Amendments to the IMDG Code and supplements (7.10);

—Revision of the Revised guidelines for the preparation of the Cargo Securing Manual (MSC.1/Circ.1353/Rev.2) to include a harmonized performance standard for lashing software to permit lashing software as a supplement to the Cargo Securing Manual (7.40);

—Consideration of reports of incidents involving dangerous goods or marine pollutants in packaged form on board ships or in port areas (7.28);

—Unified interpretation of provisions of IMO safety, security, environment, facilitation, liability and compensation-related conventions (7.1);

—Development of measures to prevent the loss of containers at sea (7.20);

—Revision of the Interim recommendations for carriage of liquefied hydrogen in bulk (2.25);

—Development of a safety regulatory framework to support the reduction of GHG emissions from ships using new technologies and alternative fuels (3.8)

—Biennial status report and provisional agenda for CCC 12;

—Election of the Chair and Vice-Chair for 2026;

—Any other business;

—Report to the Committees.

Please note: The IMO may, on short notice, adjust the CCC 11 agenda to accommodate the constraints associated with the virtual meeting format. Although no changes to the agenda are anticipated, if any are necessary, they will be provided to those who RSVP.

Those who plan to participate may contact the meeting coordinator, LT Eva McNell, by email at Eva.M.McNell@uscg.mil, by phone at 571-610-3684, or in writing at 2703 Martin Luther King Jr. Ave. SE, Hazardous Materials Division (CG-ENG-5), ATTN: LT Eva McNell, 2703 Martin Luther King Jr. Ave. SE, Stop 7509, Washington, DC 20593-7509, by August 12, 2025. Members of the public needing reasonable accommodation should advise LT Eva McNell no later than August 12, 2025. Requests made after that date will be considered but might not be possible to fulfill.

Additional information regarding this and other IMO public meetings may be found at: https://www.dco.uscg.mil/IMO/.

(Authority: 22 U.S.C. 2656 and 5 U.S.C. 552)

Emily C. Miletello,
Coast Guard Liaison Officer, Office of Ocean and Polar Affairs, Department of State.

[FR Doc. 2025-16146 Filed 8-21-25; 8:45 am]

BILLING CODE 4710-09-P